DEPARTMENT OF THE TREASURY

Internal Revenue Service

Financial Crimes Enforcement Network; Proposed Collection; Comment Request; Renewal Without Change of the FinCEN/IRS Form 8300

AGENCY: Internal Revenue Service (IRS) and Financial Crimes Enforcement Network (FinCEN), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS and the FinCEN are soliciting comments concerning Form 8300, Report of Cash Payments Over $10,000 Received in a Trade or Business.

DATES: Written comments should be received on or before November 16, 2009 to be assured of consideration.

ADDRESSES: Direct all written comments to R. Joseph Durbala, Internal Revenue Service, Room 6129, 1111 Constitution Avenue, NW., Washington, DC 20224; and The Regulatory Policy and Programs Division, Financial Crimes Enforcement Network, Department of the Treasury, P.O. Box 39, Vienna, Virginia 22183. Attention: PRA Comments—Form 8300. Comments also may be submitted by electronic mail to the following Internet address: regcomments@fincen.gov with the caption in the body of the text, “Attention: PRA Comments—Form 8300.”

Inspection of comments. Comments may be inspected, between 10 a.m. and 4 p.m., in the FinCEN reading room in Vienna, VA. Persons wishing to inspect the comments submitted must request an appointment with the Disclosure Officer by telephoning (703) 905-5034 (not a toll free call).

FOR FURTHER INFORMATION CONTACT: Requests for additional information or copies of the form and instructions should be directed to Allan Hopkins, (202) 622-6665, Allan.M.Hopkins@irs.gov, or Internal Revenue Service, Room 6129, 1111 Constitution Avenue, NW., Washington, DC 20224; or Regulatory Policy and Programs Division Regulatory Helpline, (800) 949-2732 and select option 6. A copy of the form may be obtained through the Internet at http://www.irs.gov or http://www.fincen.gov/forms.

SUPPLEMENTARY INFORMATION:

Title: Report of Cash Payments Over $10,000 Received in a Trade or Business.

OMB Numbers: 1545-0892 (IRS) and 1506-0018 (FinCEN).

Form Number: 8300.

Abstract: Internal Revenue Code section 6050I requires any person in a trade or business who, in the course of the trade or business, receives more than $10,000 in cash or foreign currency in one or more related transactions to report it to the IRS and provide a statement to the payer. Form 8300 is used for this purpose.

Section 365 of the USA Patriot Act of 2001 (Pub. L. 107-56), adding new section 5331 to title 31 of the United States Code, authorized the Financial Crimes Enforcement Network to collect the information reported on Form 8300. In a joint effort to develop a dual use form, IRS and FinCEN worked together to ensure that the transmission of the data collected to FinCEN on Forms 8300 does not violate the provisions of section 6103. FinCEN makes the Forms 8300 available to law enforcement through its Bank Secrecy Act information sharing agreements.

Current Actions: There are no changes being made to the form at this time.

Type of Review: Extension of a currently approved collection.

Affected Public: Business or other for-profit organizations, farms, and the Federal government.

Frequency: As required.

Estimated Number of Respondents: 46,800.

Estimated Time per Respondent: 1 hr., 22 min.

Estimated Total Annual Burden Hours: 63,539 ¹.

¹ The burden for the information collection in 31 CFR 103.30 (also approved under control number 1506-0018) relating to the Form 8300, is reflected in the burden of the form.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

In accordance with 31 CFR 103.30(e)(3) a person required to make a report under this section must keep a copy of each report filed for five years from the date of filing.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: September 10, 2009.
James H. Freis, Jr.,
Director, Financial Crimes Enforcement Network.
R. Joseph Durbala,
IRS Reports Clearance Officer.

[FR Doc. E9-22265 Filed 9-15-09; 8:45 am]

BILLING CODE 4830-01-P